DEPARTMENT OF DEFENSE

Department of the Army

[Docket ID: USA-2015-0017]

Proposed Collection; Comment Request

AGENCY: Armed Forces Medical Examiner (AFMES), DoD.

ACTION: Notice.

SUMMARY: In compliance with the Paperwork Reduction Act of 1995, the Office of the Armed Forces Repository Specimen Samples for the Identification or Remains (AFRSSIR), a part of the Armed Forces Medical Examiner System (AFMES), announces a proposed public information collection and seeks public comment on the provisions thereof. Comments are invited on: (a) whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 17, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Armed Forces Repository of Specimen Samples for the Identification of Remains, Armed Forces Medical Examiner System (AFMES), 115 Purple Heart Drive, Dover AFB, DE, 19902-5051, ATTN: Mr. John Martin, Legal Counsel, AFMES at (302) 346-8634.

SUPPLEMENTARY INFORMATION: Title; Associated Form; and OMB Number: Donor Specimen Card, OMB Control Number: 0702-XXXX.

Needs and Uses: The information collected will be used for the identification of human remains. The principal purpose of the information is to identify reference specimen samples that will routinely be stored and not analyzed until needed for remains identification program purposes.

Affected Public: Individuals or Households and Federal Government.

Annual Burden Hours: 62,500.

Number of Respondents: 250,000.

Responses per Respondent: 1.

Average Burden per Response: 15 minutes.

Frequency: On Occasion.

Respondents are deploying civilian or contractors and military personnel family members. The principal purpose of the collection is identify reference specimen samples that will be stored and not analyzed until needed for remain identification purposes. The donors at various military collection points and other federal agencies provide a blood sample which is stained on laboratory grade blood stain card (BSC). The identifying information on the blood stain card provided the donor reflects the individual's full name, signature, social security number (SSN), date of birth collection date and branch of service. The BSC is air dried and vacuumed sealed in a poly foil pouch. An adhesive label reflecting the donor information and redacted (SSN) is printed on the label, along with the unique accession number. In the event of the donor's death, the blood sample is scientifically analyzed and a DNA profile is created. This profile is then compared with the post-mortem sample obtained at the autopsy for positive identification.

Dated: May 12, 2015.
Aaron Siegel,
Alternate OSD Federal Register Liaison Officer, Department of Defense.

[FR Doc. 2015-11857 Filed 5-15-15; 8:45 am]

BILLING CODE 5001-06-P